DEPARTMENT OF COMMERCE

International Trade Administration

BISNIS Publication Subscription Form

Title: BISNIS Publication Subscription Form.

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506(C) (2) (A)).

DATES: Written comments must be submitted on or before September 13, 2005.

ADDRESSES: Direct all written comments to Diana Hynek, Departmental Paperwork Clearance Officer, Department of Commerce, Room 6625, 14th & Constitution Avenue, NW., Washington, DC 20230. Phone number: (202) 482-0266. E-mail: dHynek@doc.gov.

FOR FURTHER INFORMATION CONTACT: Request for additional information or copies of the information collection instrument and instructions should be directed to: Philip de Leon, International Trade Administration, U.S. Foreign Commercial Service, Business Information Service for the Newly Independent States (BISNIS), 14th & Constitution Avenue, NW., Washington, DC 20230; Phone number: (202) 482-2109, and fax number: (202) 482-3574.

SUPPLEMENTARY INFORMATION:

I. Abstract

The International Trade Administration's (ITA) Business Information Service for the Newly Independent States (BISNIS) program offers business information and counseling to U.S. companies seeking to export or to invest in the countries of the former Soviet Union. A critical component of the program is the dissemination of information regarding market conditions and opportunities in various industries and countries of the former Soviet Union. These information products provided by BISNIS are in the form of e-mails, faxes, and paper mailers. The Publication Subscription form is a quick way for interested parties to tell BISNIS which products they want and their industry and country interests.

II. Method of Collection

Internet, fax, mail, or telephone.

III. Data

OMB Number: 0625-0236.

Form Number: N/A.

Type of Review: Regular submission.

Affected Public: Business or other for-profit firms.

Estimated Number of Respondents: 2,000.

Estimated Time Per Response: 5 minutes.

Estimated Total Annual Burden Hours: 170 hours.

Estimated Total Annual Costs: The estimated annual cost for this collection is $5,100.00 ($4,080.00 for respondents and $1,020.00 for Federal government).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: July 11, 2005.
Madeleine Clayton,
Management Analyst, Office of the Chief Information Officer.

[FR Doc. E5-3755 Filed 7-14-05; 8:45 am]

BILLING CODE 3510-FP-P